DEPARTMENT OF COMMERCE

National Oceanic and Atmospheric Administration

50 CFR Part 665

[Docket No. 070215037-7037-01; I.D. 020907A]

RIN 0648-AV26

Fisheries in the Western Pacific; Western Pacific Precious Corals Fisheries; Control Date

AGENCY: National Marine Fisheries Service (NMFS), National Oceanic and Atmospheric Administration (NOAA), Commerce.

ACTION: Advance notice of proposed rulemaking; notification of control date; request for comments.

SUMMARY: NMFS announces that persons who enter the black coral fishery in the Au'au Channel, Hawaii, after December 21, 2006, (the “control date”) are not guaranteed future participation in the fishery if the Western Pacific Fishery Management Council (Council) recommends, and NMFS approves, a program that limits entry into the fishery or fishing effort. This action does not commit the Council or NMFS to limit entry, or prevent any other date from being selected for use when limiting eligibility to participate in the Au'au Channel black coral fishery. The Council or NMFS may also use other criteria to limit fishing effort or participation in a limited entry program that is developed in the future.

DATES: Comments must be submitted in writing by May 1, 2007.

ADDRESSES: You may submit comments on this action identified by 0648-AV26 by any of the following methods:

• E-mail: AV26BlackCoral@noaa.gov. Include 0648-AV26 in the subject line of the e-mail comment following document identifier: Black coral. Comments sent via e-mail, including all attachments, must not exceed a 10 megabyte file size.

• Federal e-Rulemaking portal: www.regulations.gov. Follow the instructions for submitting comments.

• Mail: William L. Robinson, Regional Administrator, NMFS Pacific Islands Region (PIR), 1601 Kapiolani Blvd., Suite 1110, Honolulu, HI 96814.

FOR FURTHER INFORMATION CONTACT: Bob Harman, NMFS PIR, 808-944-2271.

SUPPLEMENTARY INFORMATION: At its 136th meeting in December, 2006, the Council adopted a control date of December 21, 2006, applicable to persons who are contemplating entering the fishery for black corals in the Au'au Channel, Hawaii (south of Maui). The Council requested that this control date be published in the Federal Register to provide timely notice to fishermen and the general public. Anyone entering the fishery after December 21, 2006, will not be guaranteed future access, if a management regime that limits the number of participants in the fishery is prepared and implemented.

Recent research has indicated that the biomass of the Au'au Channel black coral population has decreased by at least 25 percent in the last 30 years. Data collected in late 2001, during submersible dives, showed a decline in recruitment, as well as a decrease in the relative abundance of legal-sized coral colonies. The decline in recruitment may be related to an increase in abundance of the alien snowflake coral Carijoa riisei. This highly-invasive soft coral was found to be overgrowing large areas of black coral habitat and black coral colonies, especially at depths of 80-110 meters (beyond the normal working depth of black coral harvesters). Directed fishing pressure on black corals in shallower areas of the Au'au Channel bed is also considered to be an important factor in the observed population and recruitment declines.

Control dates are intended to discourage speculative entry into fisheries, as new participants entering the fisheries after the control date are forewarned that they are not guaranteed future participation in the fisheries. Establishment of this control date does not commit the Council or NMFS to any particular management regime or criteria for entry into the Au'au Channel black coral fishery. Fishermen are not guaranteed future participation in the fishery, regardless of their level of participation before or after the control date. The Council may choose a different control date, or it may choose a management regime that does not involve a control date. Other criteria, such as documentation of commercial landings and sales, may be used to determine eligibility for participation in a limited access fishery. The Council also may choose to take no further action to control entry or access to the fishery, in which case the control date may be rescinded.

Classification

This advance notice of proposed rulemaking has been determined to be not significant for the purposes of Executive Order 12866.

Authority: 16 U.S.C. 1801 et seq.

Dated: February 26, 2007.
Samuel D. Rauch III,
Deputy Assistant Administrator for Regulatory Programs, National Marine Fisheries Service.

[FR Doc. E7-3702 Filed 3-1-07; 8:45 am]

BILLING CODE 3510-22-S